DEPARTMENT OF TRANSPORTATION

Federal Aviation Administration

14 CFR Part 39

[Docket No. 2000-NE-12-AD; Amendment 39-12218; AD 2001-08-14]

RIN 2120-AA64

Airworthiness Directives: Turbomeca S.A. Arrius Models 2B, 2B1, and 2F Turboshaft Engines; Correction

AGENCY: Federal Aviation Administration, DOT.

ACTION: Final rule; correction.

SUMMARY: This document makes a correction to Airworthiness Directive (AD) 2001-08-14 applicable to Turbomeca S.A. Arrius models 2B, 2B1, and 2F turboshaft engines, that was published in the Federal Register on April 26, 2001 (66 FR 20910). The amendment number of 39-12191 used in this AD is incorrect. This document corrects that amendment number. In all other respects, the original document remains the same.

EFFECTIVE DATE: May 31, 2001.

FOR FURTHER INFORMATION CONTACT: James Rosa, Aerospace Engineer, Engine Certification Office, FAA, Engine and Propeller Directorate, 12 New England Executive Park, Burlington, MA 01803; telephone (781) 238-7152, fax (781) 238-7199.

SUPPLEMENTARY INFORMATION: A final rule airworthiness directive (FR Doc. 01-10021) applicable to Turbomeca S.A. Arrius models 2B, 2B1, and 2F turboshaft engines was published in the Federal Register on April 26, 2001 (66 FR 20912). The following correction is needed:

1. On page 20910, in the first column, in the Heading of the document, the docket line is corrected to read “[Docket No. 2000-NE-12-AD; Amendment 39-12218; AD 2001-08-14]”.

PART 39—[CORRECTED]

§ 39.13 [Corrected]

2. On page 20911, in the first column, under amendatory instruction 2, the heading of AD 2001-08-14 is corrected to read as follows:

2001-08-14 Turbomeca S.A. Arrius Models 2B, 2B1, and 2F Turboshaft Engines: Amendment 39-12218. Docket No. 2000-NE-12-AD.

* * * * *

Issued in Burlington, MA, on April 30, 2001.
Francis A. Favara,
Acting Manager, Engine and Propeller Directorate, Aircraft Certification Service.

[FR Doc. 01-11456 Filed 5-7-01; 8:45 am]

BILLING CODE 4910-13-M